SECURITIES AND EXCHANGE COMMISSION

[SEC File No. 270-793, OMB Control No. 3235-0738]

Submission for OMB Review; Comment Request; Extension: Rules 13n-4(b)(9), (b)(10) and (d)

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in rules 13n-4(b)(9), (b)(10) and (d) under the Securities Exchange Act of 1934 (15 U.S.C. 78a et seq.).

Rules 13n-4(b)(9), (b)(10) and (d) implement Exchange Act sections 13(n)(5)(G) and (H), which conditionally require security-based swap data repositories (SDRs) registered with the SEC to make security-based swap data available to certain regulators and other authorities. The rules in part would condition this access to data on the regulators and other authorities entering into memoranda of understanding or other arrangements with the Commission to address the confidentiality of the data made available. The rules further would require SDRs to create and maintain records regarding such data access. In addition, certain regulators or other authorities that are not otherwise designated by statute or rule may submit applications to the Commission requesting that they be deemed eligible to access the relevant security-based swap data.

Implementation of the statutory data access provisions—including the confidentiality condition and the Commission's authority to designate entities to access such information—will facilitate regulatory oversight of the security-based swap market and its participants, including oversight of systemic and other risks associated with the market. Implementation also will promote compliance with applicable laws and regulations, including but not limited to compliance with the antifraud provisions of the federal securities laws.

Commission Staff estimates that the total annual burden associated with Rules 13n-4(b)(9), (b)(10) and (d) is 11,405 hours and $120,000, calculated as follows:

Commission staff estimates a total of 50 regulators or other authorities will enter into confidentiality arrangements with the Commission to obtain access to security-based swap data pursuant to these provisions. On average, each of those recipients of data is expected to expend 500 hours in connection with negotiating these MOUs or other arrangements, for a one-time aggregate burden of 25,000 hours, with no associated ongoing burdens. This equates to 8,333 hours per year when annualized over three years.

Commission staff estimates that a total of 41 regulators or other authorities (that otherwise are not identified by statute or the rules as being eligible for access) may request that the Commission determine that they be able to access such security-based swap data. On average, each of those entities is expected to expend 40 hours in connection with such requests, for a one-time aggregate burden of 1,640 hours, with no associated ongoing burdens. This equates to 547 hours per year when annualized over three years.

Commission staff also estimates that a total of three SDRs may be expected to incur systems-related costs associated with setting up access to security-based swap data for regulators and other authorities. On average, each of those entities is expected to expend 1,300 hours in connection with providing such connectivity (based on each SDR incurring 26 hours per recipient, over 50 total recipients), for a one-time aggregate burden of 3,900 hours, with no associated no ongoing burdens associated with this requirement. This equates to 1,300 hours when annualized over three years.

In addition, Commission staff estimates that a total of three SDRs may incur costs associated with notifying the Commission when the SDR receives the first request for security-based swap data from a particular entity. On average, each of those SDRs is expected to expend 25 hours in connection with this notice requirement (based on each SDR providing 50 notices, at half-hour per notice), for a one-time aggregate burden of 75 hours, with no associated ongoing burdens. This equates to 25 hours per year when annualized over three years.

Commission staff estimates that a total of three SDRs may incur costs associated with the requirement that they maintain records of all information related to initial and subsequent requests for data access. On average, compliance with this provision is expected to require 360 hours initially and 280 hours annually per SDR, for a total burden of 1,080 hours initially and 840 hours annually across three SDRs. This equates to 1,200 hours per year when annualized over three years. Commission staff further estimates that those SDRs each will require $40,000 annually in connection with that requirement, for a total cost of $120,000 annually across three SDRs.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by December 19, 2022 to (i) MBX.OMB.OIRA.SEC_desk_officer@omb.eop.gov and (ii) David Bottom, Director/Chief Information Officer, Securities and Exchange Commission, c/o John Pezzullo, 100 F Street NE, Washington, DC 20549, or by sending an email to: PRA_Mailbox@sec.gov.”

Dated: November 14, 2022.
Sherry R. Haywood,
Assistant Secretary.

[FR Doc. 2022-25100 Filed 11-17-22; 8:45 am]

BILLING CODE 8011-01-P